DEPARTMENT OF STATE

[Public Notice: 12161]

Notice of Public Meeting in Preparation for International Maritime Organization Carriage of Cargoes and Containers Sub-Committee Meeting

The Department of State will conduct a public meeting at 10:00 a.m. on Tuesday, September 12, 2023, both in-person at Coast Guard Headquarters in Washington, DC, and via teleconference. The primary purpose of the meeting is to prepare for the 9th session of the International Maritime Organization's (IMO) Carriage of Cargoes and Containers Sub-Committee (CCC 9) to be held at the IMO Headquarters in London, United Kingdom from Wednesday, September 20, to Friday, September 29, 2023. Members of the public may participate up to the capacity of the teleconference phone line, which can handle 500 participants or up to the seating capacity of the room if attending in-person. The meeting location will be the United States Coast Guard Headquarters, 5Q23-06, and the teleconference line will be provided to those who RSVP. To RSVP, participants should contact the meeting coordinator, Dr. Amy Parker, by email at Amy.M.Parker@uscg.mil. Dr. Parker will provide access information for in-person and virtual attendance.

The agenda items to be considered at this meeting mirror those to be considered at CCC 9, and include:

—Adoption of the agenda

—Decisions of other IMO bodies

—Amendments to the IGF Code and development of guidelines for alternative fuels and related technologies

—Review of the IGC Code

—Amendments to the IMSBC Code and supplements

—Amendments to the IMDG Code and supplements

—Revision of the Interim recommendations for carriage of liquefied hydrogen in bulk

—Revision of resolution A.1050(27) to ensure the safety of personnel entering enclosed spaces on board ships

—Consideration of reports of incidents involving dangerous goods or marine pollutants in packaged form on board ships or in port areas

—Unified interpretation of provisions of IMO safety, security, and environment-related conventions

—Biennial status report and provisional agenda for CCC 10

—Election of Chair and Vice-Chair for 2024

—Any other business

—Report to the Committees

Please note: The IMO may, on short notice, adjust the CCC 9 agenda to accommodate the constraints associated with the virtual meeting format. Any changes to the agenda will be reported to those who RSVP and those in attendance at the meeting.

Those who plan to participate may contact the meeting coordinator, Dr. Amy Parker, by email at Amy.M.Parker@uscg.mil, by phone at (202) 372-1423, or in writing at United States Coast Guard (CG-ENG-5), ATTN: Dr. Amy Parker, 2703 Martin Luther King Jr. Ave. SE, Stop 7509, Washington, DC 20593-7509. Members of the public needing reasonable accommodation should advise Dr. Amy Parker no later than August 29, 2023. Requests made after that date will be considered but might not be possible to fulfill. Additional information regarding this and other IMO public meetings may be found at: https://www.dco.uscg.mil/IMO.

(Authority: 22 U.S.C. 2656 and 5 U.S.C. 552.)

Leslie W. Hunt,
Coast Guard Liaison Officer, Office of Ocean and Polar Affairs, Department of State.

[FR Doc. 2023-18433 Filed 8-25-23; 8:45 am]

BILLING CODE 4710-09-P